DEPARTMENT OF DEFENSE

Office of the Secretary

[Docket ID: DoD-2013-OS-0116]

Privacy Act of 1974; System of Records

AGENCY: Office of the Inspector General, DoD.

ACTION: Notice to amend a System of Records.

SUMMARY: The Office of the Inspector General is amending a system of records notice in its existing inventory of record systems subject to the Privacy Act of 1974 (5 U.S.C. 552a), as amended.

DATES: This proposed action will be effective on August 5, 2013 unless comments are received which result in a contrary determination. Comments will be accepted on or before August 5, 2013.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General systems of records notices subject to the Privacy Act of 1974 (5 U.S.C. 552a), as amended, have been published in the Federal Register and are available from the address in FOR FURTHER INFORMATION CONTACT or at http://dpclo.defense.gov/privacy/SORNs/component/oig/index.html.

The proposed changes to the record system being amended are set forth below. The proposed amendment is not within the purview of subsection (r) of the Privacy Act of 1974 (5 U.S.C. 552a), as amended, which requires the submission of a new or altered system report.

Dated: July 1, 2013.
Aaron Siegel,
Alternate OSD Federal Register Liaison Officer, Department of Defense.

CIG-19

System name:

Recall Roster/Locator Records (October 1, 2008, 73 FR 57066).

Changes:

* * * * *

System Name:

Delete entry and replace with “Office of Inspector General—Emergency Alert Notification System.”

System location:

Delete entry and replace with “Kingdomware Technologies, Inc., 11186 Bel Aire Ct, Waldorf, MD 20603-5941.”

* * * * *

Safeguards:

Delete entry and replace with “Passwords, digital signatures, and role-based access are used to control access to the systems data, and procedures are in place to deter and detect browsing and unauthorized access. Physical and electronic access are limited to persons responsible for servicing and authorized to use the record system. Automated segments are further protected by secure log-in and passwords. Access to personal information will be maintained in a secure, password protected electronic system that utilizes security hardware and software to include: Multiple firewalls, active intruder detection and role-based access controls. Audit trails of all system actions are logged.”

* * * * *

System manager(s) and address:

Delete entry and replace with “Office of the Inspector General of the Department of Defense, COOP Program Manager, Administration and Information Management Directorate, 4800 Mark Center Drive, Alexandria, VA 22350-1500.”

Notification procedure:

Delete entry and replace with “Individuals seeking to determine whether information about themselves is contained in this system of records should address written inquiries to the Freedom of Information Act Requester Service Center/Privacy Act Office, 4800 Mark Center Drive, Alexandria, VA 22350-1500.

Written requests should contain the individual's full name and work organization.”

Record access procedures:

Delete entry and replace with “Individuals seeking access to information about themselves contained in this system of records should address written inquiries to the Freedom of Information Act Requester Service Center/Privacy Act Office, 4800 Mark Center Drive, Alexandria, VA 22350-1500.

Written requests should contain the individual's full name and work organization.”

* * * * *

[FR Doc. 2013-16154 Filed 7-3-13; 8:45 am]

BILLING CODE 5001-06-P